DEPARTMENT OF THE INTERIOR

National Park Service

[NPS-WASO-CONC-15941; PPWOBSADC0, PPMVSCS1Y.Y00000]

Notice of Extension and Continuation of Concession Contracts

AGENCY: National Park Service, Interior.

ACTION: Public notice.

SUMMARY: Under the provisions of current concession contracts and pending the completion of the public solicitation of a prospectus for a new concession contract, the National Park Service authorizes extension or continuation of visitor services for the contracts listed below until the dates shown under the terms and conditions of the current contract as amended. The extension of operations does not affect any rights with respect to selection for award of a new concession contract.

DATES: Effective July 1, 2014.

FOR FURTHER INFORMATION CONTACT: Jo Pendry, Acting Chief, Commercial Services Program, National Park Service, 1201 Eye Street NW., 11th Floor, Washington, DC 20005, Telephone: 202-513-7156.

SUPPLEMENTARY INFORMATION: Pursuant to 36 CFR 51.23, the National Park Service has determined the proposed extensions are necessary to avoid interruption of visitor services and has taken all reasonable and appropriate steps to consider alternatives to avoid such interruption.

CONCID | Concessioner | Park unit | Extend until
COLO002-04 | Lisburne Lane Antiques, Inc | Colonial National Historical Park | December 31, 2014.
CUIS001-04 | Lang Seafood Company | Cumberland Island National Seashore | December 31, 2014.
GRTE024-03 | Jackson Hole Mountain Resort | Grand Teton National Park | May 31, 2015.
GRTE032-03 | The Hole Hiking Experience, Inc | Grand Teton National Park | May 31, 2015.
OLYM008-05 | ARAMARK Sports and Entertainment Services, Inc | Olympic National Park | December 31, 2015.
ORCA001-03 | Illinois Valley Community Response Team | Oregon Caves National Monument | December 31, 2015.
DENA001-03 | Doyon/ARAMARK Joint Venture | Denali National Park & Preserve | December 31, 2015.
DENA005-04 | Rainier Mountaineering, Inc | Denali National Park & Preserve | December 31, 2015.
DENA006-04 | Mountain Trip International, LLC | Denali National Park & Preserve | December 31, 2015.
DENA008-04 | Alaska Mountaineering School, LLC | Denali National Park & Preserve | December 31, 2015.
DENA009-04 | Alpine Ascents International, Inc | Denali National Park & Preserve | December 31, 2015.
DENA010-04 | American Alpine Institute, Ltd | Denali National Park & Preserve | December 31, 2015.
DENA011-04 | National Outdoor Leadership School | Denali National Park & Preserve | December 31, 2015.
DENA030-05 | Kantishna Air Taxi, Inc | Denali National Park & Preserve | December 31, 2015.
SEKI004-98 | DNC Parks and Resorts at Sequoia, Inc | Sequoia & Kings Canyon National Parks | December 31, 2015.
ANIA903-05 | Joe Klutsch | Aniakchak National Monument & Preserve | December 31, 2015.
ANIA904-05 | Jay M. King | Aniakchak National Monument & Preserve | December 31, 2015.
ANIA906-05 | Cinder River Lodge, Inc | Aniakchak National Monument & Preserve | December 31, 2015.
GAAR001-05 | Richard A. Guthrie | Gates of the Arctic National Park & Preserve | December 31, 2015.
GLBA008-05 | Alaska Discovery, Inc | Glacier Bay National Park & Preserve | December 31, 2015.
GLBA011-05 | Chilkat Guides, Ltd | Glacier Bay National Park & Preserve | December 31, 2015.
GLBA012-05 | Colorado River & Trail Expeditions, Inc | Glacier Bay National Park & Preserve | December 31, 2015.
GLBA013-05 | James Henry River Journeys | Glacier Bay National Park & Preserve | December 31, 2015.
GLBA014-05 | Mountain Travel | Glacier Bay National Park & Preserve | December 31, 2015.
GLBA017-05 | Wilderness River Outfitters | Glacier Bay National Park & Preserve | December 31, 2015.
GLBA020-05 | Vernon W. Schumacher | Glacier Bay National Park & Preserve | December 31, 2015.
GLBA029-05 | Janice Lowenstein | Glacier Bay National Park & Preserve | December 31, 2015.
GLBA033-05 | Gary Gray | Glacier Bay National Park & Preserve | December 31, 2015.
GLBA901-05 | Gary Gray | Glacier Bay National Park & Preserve | December 31, 2015.
GLBA902-05 | Gary Gray | Glacier Bay National Park & Preserve | December 31, 2015.
KATM002-05 | No See Um Lodge, Inc | Katmai National Park & Preserve | December 31, 2015.
KATM003-05 | Alaska's Enchanted Lake Lodge, Inc | Katmai National Park & Preserve | December 31, 2015.
KATM004-05 | Shaska Ventures, Inc | Katmai National Park & Preserve | December 31, 2015.
KATM005-05 | Hartley, Inc | Katmai National Park & Preserve | December 31, 2015.
KATM006-05 | Chris Branham | Katmai National Park & Preserve | December 31, 2015.
KATM007-05 | Katmai Air, LLC | Katmai National Park & Preserve | December 31, 2015.
LACL002-05 | Alaska's River Wild Lodge, LLC | Lake Chelan National Recreation Area | December 31, 2015.
LACL901-05 | Arno Krumm | Lake Chelan National Recreation Area | December 31, 2015.

SUPPLEMENTARY INFORMATION: The contract listed below has been extended to the maximum allowable under 36 CFR 51.23. Under the provisions of this concession contract and pending the completion of the public solicitation of a prospectus for a new concession contract, the National Park Service authorizes continuation of visitor services until the date shown under the terms and conditions of the current contract as amended. The continuation of operations does not affect any rights with respect to selection for award of a new concession contract.

CONCID | Concessioner | Park unit | Continue services until
YOSE004-93 | DNC Parks and Resorts at Yosemite, Inc. | Yosemite National Park | February 28, 2016.

Dated: July 7, 2014.
Lena McDowall,
Associate Director, Business Services.

[FR Doc. 2014-18496 Filed 8-4-14; 8:45 am]

BILLING CODE 4312-53-P